DEPARTMENT OF EDUCATION

Office of Postsecondary Education

34 CFR Part 668

Student Assistance General Provisions

CFR Correction

In Title 34 of the Code of Federal Regulations, parts 400 to end, revised as of July 1, 2002, on page 418, § 668.8 is corrected by reinstating paragraph (i) to read as follows:

§ 668.8 Eligible program.

* * * * *

(i) Flight training. In addition to satisfying other relevant provisions of this section, for a program of flight training to be an eligible program, it must have a current valid certification from the Federal Aviation Administration.

* * * * *

[FR Doc. 03-55512 Filed 4-17-03; 8:45 am]

BILLING CODE 1505-01-D